Title 3—

The President

Proclamation 7558 of May 10, 2002

Peace Officers Memorial Day and Police Week, 2002

By the President of the United States of America

A Proclamation

In the face of the terrorist attacks of September 11, 2001, our Nation witnessed the remarkable heroism of America's peace officers as they selflessly aided those in need. As the World Trade Center towers burned, dedicated officers rushed into the severely damaged buildings to rescue the injured. Seventy-two peace officers died that day, trying to save others. These supreme sacrifices remind us of the remarkable commitment that our Nation's peace officers have made to preserve our safety and our country's well-being.

In all, 230 law enforcement officers gave their lives in the line of duty last year. The name of each fallen officer has a place of honor on the National Law Enforcement Officers Memorial wall in Washington, D.C. This monument ensures that the valor of the more than 15,000 law enforcement officers lost since 1794 will never be forgotten.

Peace Officers Memorial Day and Police Week pay tribute to the local, State, and Federal law enforcement officers who serve and protect us with courage and dedication. These observances also remind us of the ongoing need to be vigilant against all forms of crime, especially to acts of extreme violence and terrorism.

Effective law enforcement is a crucial element to maintaining our quality of life; and we must continue to ensure that our police have the financial, technical, and civil support necessary to carry out their responsibilities. The more than 740,000 sworn law enforcement officers who are our first responders play a critical role in our Nation's safety and security.

Every American should also play a role in making our communities safer. Programs operated through the Citizen Corps, including Neighborhood Watch, Volunteers in Police Service, and the Terrorism Information and Prevention System, offer citizens the opportunity to take a stand against crime. As we observe Peace Officers Memorial Day and Police Week, I encourage all Americans to learn more about ways to fight crime in their communities and to honor the brave individuals who protect our lives and property.

By a joint resolution approved October 1, 1962, as amended, (76 Stat. 676), the Congress has authorized and requested the President to designate May 15 of each year as “Peace Officers Memorial Day” and the week in which it falls as “Police Week,” and, by Public Law 103-322, as amended, (36 U.S.C. 136), has directed that the flag be flown at half-staff on Peace Officers Memorial Day.

NOW, THEREFORE, I, GEORGE W. BUSH, President of the United States of America, do hereby proclaim May 15, 2002, as Peace Officers Memorial Day and May 12 through May 18, 2002, as Police Week. I call on Americans to observe these events with appropriate ceremonies and activities. I also call on Governors of the United States and the Commonwealth of Puerto Rico, as well as appropriate officials of all units of government, to direct that the flag be flown at half-staff on Peace Officers Memorial Day. I further encourage all Americans to display the flag at half-staff from their homes on that day.

IN WITNESS WHEREOF, I have hereunto set my hand this tenth day of May, in the year of our Lord two thousand two, and of the Independence of the United States of America the two hundred and twenty-sixth.

B

[FR Doc. 02-12297

Filed 5-14-02; 8:45 am]

Billing code 3195-01-P